DEPARTMENT OF TRANSPORTATION

Office of the Secretary

[Docket No. DOT-OST-2022-0053]

Notice To Establish the Advisory Committee on Transportation Equity

AGENCY: Office of the Secretary (OST), Department of Transportation (DOT).

ACTION: Notice of the establishment of the Advisory Committee on Transportation Equity.

SUMMARY: The Office of the Secretary of Transportation (OST) announces the establishment of the Advisory Committee on Transportation Equity. The Secretary has determined that establishing the Advisory Committee on Transportation Equity is necessary and in the public interest.

DATES: The Advisory Committee on Transportation Equity will operate for two years after the filing date of its charter that will meet the 15-days requirements of the Federal Register Notice, unless otherwise renewed in accordance with FACA.

FOR FURTHER INFORMATION CONTACT: Advisory Committee on Transportation Equity Designated Federal Officer, Portia Allen-Kyle, Senior Advisor, Departmental Office of Civil Rights, Office of the Secretary, portia.allenkyle@dot.gov.

SUPPLEMENTARY INFORMATION: This notice announces the establishment of the Advisory Committee on Transportation Equity as a Federal Advisory Committee in accordance with the Federal Advisory Committee Act (Pub. L. 92-463, 5 U.S.C. app. 2) to provide information, advice, and recommendations to the Secretary on comprehensive, interdisciplinary issues related to civil rights and transportation equity in the planning, design, research, policy, and advocacy contexts. The Committee is tasked with providing advice and recommendations to the Secretary about approaches to achieving the Department's equity goals. The Committee will only undertake tasks assigned to it by the Secretary. The Federal Register Notice will be published 15 days prior to filing the charter with Congress.

This notice is provided in accordance with the Federal Advisory Committee Act. Please see the Advisory Committee on Transportation Equity website at https://www.transportation.gov/civil-rights/acte.

Issued in Washington, DC, on May 11, 2022.
Irene B. Marion,
Director, Departmental Office of Civil Rights, U.S. Department of Transportation.

[FR Doc. 2022-10489 Filed 5-13-22; 8:45 am]

BILLING CODE 4910-9X-P